DEPARTMENT OF AGRICULTURE

Notice of Request for Approval of a New Information Collection

AGENCY: Commodity Credit Corporation, USDA.

ACTION: Notice and request for comments.

SUMMARY: In accordance with the Paperwork Reduction Act of 1995, this notice announces the intention of the Commodity Credit Corporation to request approval for collecting information necessary to pre-approve producers who request Loan Deficiency Payments online. This request does not involve any revisions to program rules or eligibility. The proposed “Request for E-LDP Services” collects information that is necessary to determine whether the producer is eligible to obtain an LDP online.

DATES: Comments on this notice must be received on or before February 5, 2002, to be assured consideration.

FOR FURTHER INFORMATION CONTACT: Kimberly V. Graham, USDA/Farm Service Agency, 1400 Independence Avenue, SW., STOP 0512; Washington, DC 20250-0512, telephone number (202) 720-9154. Comments may also be submitted by e-mail to: Kimberly_Graham@wdc.usda.gov.

SUPPLEMENTARY INFORMATION: Title: Request for Electronic LDP Services.

OMB Control Number: 0560-NEW.

Type of Request: Approval of a new information collection.

Abstract: On behalf of CCC, the Farm Service Agency (FSA) has developed an Electronic Loan Deficiency Payment pilot project. This internet-based process would allow producers to request an LDP online. The capability to request LDPs online would provide producers an alternative method for obtaining loan deficiency payments. The purpose for obtaining this information is to determine producer eligibility and establish producer profiles in support of the online process. The reporting method is customer/producer-based and focuses on collecting and maintaining information needed to authorize producers access to E-LDP Services.

Estimate of Burden: Public reporting burden for the collection of information is estimated to average 4 minutes per producer.

Respondents: Producers/corporations.

Estimated Number of Respondents: 500.

Estimated Number of Responses per Respondent: 1.

Estimated Total Annual Burden on Respondents: 25 hours.

Proposed topics for comment include: (a) Whether the collection of information is necessary for the proper performance of the functions of the agency, including whether the information will have practical utility and protect the interests of CCC and the producer; (b) the accuracy of the agency's estimate of burden including the validity of the methodology and assumptions used; (c) ways to enhance the quality, utility, and clarity of the information collected; and (d) ways to minimize the burden of the collection of the information on those who respond, including the use of appropriated automated, electronic, mechanical, or techniques or other forms of information technology.

Comments should be sent to the Desk Officer for Agriculture, Office of Information and Regulatory Affairs, Office of Management and Budget, Washington, DC 20503 and to Kimberly V. Graham, USDA/Farm Service Agency, 1400 Independence Avenue, SW., STOP 0512; Washington, DC 20250-0512, telephone number (202) 720-9154. All responses to this notice will be summarized and included in the request for OMB approval. All comments will become a matter of public record.

Signed at Washington, DC, on November 15, 2001.
James R. Little,
Administrator, Farm Service Agency.

[FR Doc. 01-30312 Filed 12-6-01; 8:45 am]

BILLING CODE 3410-05-P